ENVIRONMENTAL PROTECTION AGENCY

[ER-FRL-9033-6]

Environmental Impact Statements; Notice of Availability

Responsible Agency: Office of Federal Activities, General Information (202) 564-7146 or http://www.epa.gov/nepa.

Weekly receipt of Environmental Impact Statements (EISs)

Filed 05/29/2017 Through 06/02/2017

Pursuant to 40 CFR 1506.9.

Notice

Section 309(a) of the Clean Air Act requires that EPA make public its comments on EISs issued by other Federal agencies. EPA's comment letters on EISs are available at: http://www.epa.gov/compliance/nepa/eisdata.html.

EIS No. 20170094, Final, NMFS, OR, Analyze Impacts of NOAA's National Marine Fisheries Service Proposed Approval of the Continued Operation of 10 Hatchery Facilities for Trout, Salmon, and Steelhead Along the Oregon Coast, as Described in Oregon Department of Fish and Wildlife Hatchery and Genetic Management Plans Pursuant to Section 4(d) of the Endangered Species Act, Review Period Ends: 07/10/2017, Contact: Lance Kruzic, 541-957-3381.

EIS No. 20170095, Draft, USFWS, CA, Yolo Habitat Conservation Plan/Natural Community Conservation Plan, Comment Period Ends: 08/29/2017, Contact: Mike Thomas 916-414-6464.

EIS No. 20170096, Final, USACE, MS, Port of Gulfport Expansion Project, Review Period Ends: 07/10/2017, Contact: Philip Hegji 251-690-3222.

EIS No. 20170097, Draft Supplement, USFS, CO, Federal Coal Lease Modifications COC-1362 & COC-67232, Comment Period Ends: 07/24/2017, Contact: Niccole Mortenson 406-329-3163.

Dated: June 6, 2017.
Dawn Roberts,
Management Analyst, NEPA Compliance Division, Office of Federal Activities.

[FR Doc. 2017-12016 Filed 6-8-17; 8:45 am]

BILLING CODE 6560-50-P